DEPARTMENT OF ENERGY

National Coal Council

AGENCY: Office of Fossil Energy & Carbon Management, Department of Energy.

ACTION: Notice of reestablishment.

SUMMARY: Pursuant to the Federal Advisory Committee Act and following consultation with the Committee Management Secretariat of the General Services Administration, notice is hereby given that the National Coal Council (NCC) will be reestablished for a two-year period. The Committee will provide advice, information, and recommendations to the Secretary of Energy on a continuing basis regarding general policy matters relating to coal and the coal industry.

DATES: The NCC was reestablished on June 16, 2025.

FOR FURTHER INFORMATION CONTACT: Tom Sarkus at (412) 386-5981; email: Thomas.sarkus@netl.doe.gov.

SUPPLEMENTARY INFORMATION: The charter NCC lapsed on November 20, 2021. The NCC was replaced by a National Advisory Committee on Coal (NACC) which was chartered on February 16, 2022. The charter for the NACC lapsed on February 16, 2024, without any members ever being appointed or any meetings ever being held.

Committee members will be chosen to assure a well-balanced representation from all sections of the country, all segments of the coal industry including large and small companies, and coal consumers; coal transportation providers, technology suppliers, and organizations engaged in environmental remediation related to coal; coal mining and coal user host communities; and service providers and regional development experts. Membership and representation of all interests will be determined in accordance with the requirements of the Federal Advisory Committee Act and implementing regulations.

The reestablishment of the Committee has been deemed essential to the Department of Energy's (DOE's) business and in the public interest in conjunction with the performance of duties imposed upon the DOE, by law and agreement.

Signing Authority

This document was signed on June 16, 2025, by David Borak, Committee Management Officer, pursuant to delegated authority from the Secretary of Energy. That document with the original signature and date is maintained by the DOE. For administrative purposes only, and in compliance with requirements of the Office of the Federal Register, the undersigned DOE Federal Register Liaison Officer has been authorized to sign and submit the document in electronic format for publication, as an official document of the DOE. This administrative process in no way alters the legal effect of this document upon publication in the Federal Register.

Signed in Washington, DC, on June 16, 2025.
Jennifer Hartzell,
Alternate Federal Register Liaison Officer, U.S. Department of Energy.

[FR Doc. 2025-11223 Filed 6-17-25; 8:45 am]

BILLING CODE 6450-01-P